DEPARTMENT OF JUSTICE

Public Availability of Department of Justice FY 2010 Service Contract Inventory

AGENCY: Justice Management Division, Department of Justice.

ACTION: Notice of Public Availability of FY 2010 Service Contract Inventories.

SUMMARY: In accordance with Section 743 of Division C of the Consolidated Appropriations Act of 2010 (Pub. L. 111-117), the Department of Justice is publishing this notice to advise the public of the availability of the FY 2010 Service Contract inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf. The Department of Justice has posted its inventory and a summary of the inventory on the Department of Justice Senior Procurement Executive homepage at the following link: http://www.justice.gov/jmd/pe/service-contract-inventory.html.

FOR FURTHER INFORMATION CONTACT: Questions regarding the service contract inventory should be directed to Dennis R. McCraw in the Justice Management Division, Management and Planning Staff, Procurement Policy and Review Group at (202) 616-3754 or dennis.mccraw@usdoj.gov.

Michael H. Allen,
Deputy Assistant Attorney General, Policy Management and Planning, U.S. Department of Justice, Justice Management Division.

[FR Doc. 2011-3561 Filed 2-16-11; 8:45 am]

BILLING CODE 4410-DB-P